DEPARTMENT OF ENERGY

Federal Energy Regulatory Commission

[Docket No. RP96-312-049]

Tennessee Gas Pipeline Company; Notice of Negotiated Rate Filing

April 17, 2001.

Take notice that on April 11, 2001, Tennessee Gas Pipeline Company (Tennessee), tendered for filing and approval a Gas Transportation Agreement between Tennessee and Virginia Power Energy Marketing, Inc. (VEPCO) pursuant to Tennessee's Rate Schedule FT-A (FT-A Agreement) for firm service commencing December 1, 2001 and ending December 31, 2001, and a copy of a March 26, 2001 Firm Transportation Negotiated Rate Agreement entered into between Tennessee and VEPCO (Negotiated Rate Agreement). The filed FT-A Agreement and the Negotiated Rate Agreement reflect a negotiated rate arrangement between Tennessee and VEPCO to be effective April 15, 2001.

Any person desiring to be heard or to protest said filing should file a motion to intervene or a protest with the Federal Energy Regulatory Commission, 888 First Street, N.E., Washington, D.C. 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9894 Filed 4-20-01; 8:45 am]

BILLING CODE 6717-01-M